ENVIRONMENTAL PROTECTION AGENCY

[EPA-HQ-OAR-2008-0699; FRL-9701-3]

Release of Draft Documents Related to the Review of the National Ambient Air Quality Standards for Ozone

AGENCY: Environmental Protection Agency (EPA).

ACTION: Availability of draft documents for public comment.

SUMMARY: On or about July 16, 2012, the Office of Air Quality Planning and Standards (OAQPS) of the EPA is making available for public comment two draft assessment documents titled, Health Risk and Exposure Assessment for Ozone, First External Review Draft and Welfare Risk and Exposure Assessment for Ozone, First External Review Draft. These two draft assessment documents describe the quantitative analyses the EPA is conducting as part of the review of the national ambient air quality standards (NAAQS) for ozone (O3). In addition, on or about August 13, 2012, OAQPS will make available for public comment the first draft document titled, Policy Assessment for the Review of the Ozone National Ambient Air Quality Standards, First External Review Draft, as well as appendices and additional technical materials that support the first draft Policy Assessment and first draft Risk and Exposure Assessments.

DATES: Comments on all documents should be submitted on or before September 11, 2012.

ADDRESSES: Submit your comments, identified by Docket ID No. EPA-HQ-OAR-2008-0699, by one of the following methods:

• www.regulations.gov: Follow the on-line instructions for submitting comments.

• Email: Comments may be sent by electronic mail (email) to a-and-r-docket@epa.gov, Attention Docket ID No. EPA-HQ-OAR-2008-0699.

• Fax: Fax your comments to 202-566-9744, Attention Docket ID. No. EPA-HQ-OAR-2008-0699.

• Mail: Send your comments to: Air and Radiation Docket and Information Center, Environmental Protection Agency, Mailcode: 2822T, 1200 Pennsylvania Ave. NW., Washington, DC 20460, Attention Docket ID No. EPA-HQ-OAR-2008-0699.

• Hand Delivery or Courier: Deliver your comments to: EPA Docket Center, 1301 Constitution Ave. NW., Room 3334, Washington, DC. Such deliveries are only accepted during the Docket's normal hours of operation, and special arrangements should be made for deliveries of boxed information.

Instructions: Direct your comments to Docket ID No. EPA-HQ-OAR-2008-0699. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be captured automatically and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Docket in the EPA Docket Center, EPA West, Room 3334, 1301 Constitution Ave. NW., Washington, DC. This Docket Facility is open from 8:30 a.m. to 4:30 p.m. Monday through Friday, excluding legal holidays. The Docket telephone number is 202-566-1742; fax 202-566-9744.

FOR FURTHER INFORMATION CONTACT: For questions related to the draft document titled, Health Risk and Exposure Assessment for Ozone, First External Review Draft (EPA-452/P-12-001; July 2012), please contact Ms. Karen Wesson, Office of Air Quality Planning and Standards (Mail code C504-02), U.S. Environmental Protection Agency, Research Triangle Park, NC 27711; email: wesson.karen@epa.gov; telephone: 919-541-3515; fax: 919-541-5315.

For questions related to the draft document titled, Welfare Risk and Exposure Assessment for Ozone, First External Review Draft (EPA-452/P-12-004; July 2012), please contact Dr. Travis Smith, Office of Air Quality Planning and Standards (Mail code C539-07), U.S. Environmental Protection Agency, Research Triangle Park, NC 27711; email: smith.jtravis@epa.gov; telephone: 919-541-2035; fax: 919-541-5315.

For questions related to the draft document titled, Policy Assessment for the Review of the Ozone National Ambient Air Quality Standards: First External Review Draft (EPA-452/P-12-002; August 2012), please contact Ms. Susan Lyon Stone, Office of Air Quality Planning and Standards (Mail code C504-06), U.S. Environmental Protection Agency, Research Triangle Park, NC 27711; email: stone.susan@epa.gov; telephone: 919-541-1146; fax: 919-541-0237.

General Information

A. What should I consider as I prepare my comments for the EPA?

1. Submitting CBI. Do not submit this information to the EPA through www.regulations.gov or email. Clearly mark the part or all of the information that you claim to be CBI. For CBI information in a disk or CD-ROM that you mail to the EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Make sure to submit your comments by the comment period deadline identified.

SUPPLEMENTARY INFORMATION: Under section 108(a) of the Clean Air Act (CAA), the Administrator identifies and lists certain pollutants which “cause or contribute to air pollution which may reasonably be anticipated to endanger public health or welfare.” The EPA then issues air quality criteria for these listed pollutants, which are commonly referred to as “criteria pollutants.” The air quality criteria are to “accurately reflect the latest scientific knowledge useful in indicating the kind and extent of all identifiable effects on public health or welfare which may be expected from the presence of [a] pollutant in the ambient air, in varying quantities.” Under section 109 of the CAA, the EPA establishes primary (health-based) and secondary (welfare-based) NAAQS for pollutants for which air quality criteria are issued. Section 109(d) of the CAA requires periodic review and, if appropriate, revision of existing air quality criteria. The revised air quality criteria reflect advances in scientific knowledge on the effects of the pollutant on public health or welfare. The EPA is also required to periodically review and, if appropriate, revise the NAAQS based on the revised air quality criteria.

Air quality criteria and NAAQS have been established for O3 to provide protection of public health and welfare from O3 and other photochemical oxidants. Presently, the EPA is reviewing the air quality criteria and NAAQS for O3. The EPA's overall plan and schedule for this review is presented in the Integrated Review Plan for the Ozone National Ambient Air Quality Standards.¹ A draft of the integrated review plan was released for public review and comment in September 2009 and was the subject of a consultation with the Clean Air Scientific Advisory Committee (CASAC) on November 13, 2009 (74 FR 54562; October 22, 2009).² Comments received from that consultation and from the public were considered in finalizing the plan and in beginning the review of the air quality criteria.

¹ EPA 452/R-11-006; April 2011; Available: http://www.epa.gov/ttn/naaqs/standards/ozone/data/2011_04_OzoneIRP.pdf.

² See http://yosemite.epa.gov/sab/sabproduct.nsf/WebProjectsbyTopicCASAC!OpenView for more information on CASAC activities related to the current O3 NAAQS review.

As part of the EPA's review of the primary and secondary O3 NAAQS,³ the Agency is conducting quantitative assessments characterizing the: (1) Health risks associated with exposure to ambient O3; (2) welfare risks associated with exposure to ambient O3; and, (3) associated ambient air quality analyses. On or about July 16, 2012, the EPA is making available for public comment two draft assessment documents titled, Health Risk and Exposure Assessment for Ozone, First External Review Draft and Welfare Risk and Exposure Assessment for Ozone, First External Review Draft. These draft assessments may be accessed online through the EPA's TTN Web site at http://www.epa.gov/ttn/naaqs/standards/ozone/s_o3_index.html.

³ See http://www.epa.gov/ttn/naaqs/review.html for more information on the NAAQS review process.

The EPA's plans for conducting these assessments, including the proposed scope and methods of the analyses, were presented in two planning documents titled, Ozone National Ambient Air Quality Standards: Scope and Methods Plan for Health Risk and Exposure Assessment and Ozone National Ambient Air Quality Standards: Scope and Methods Plan for Welfare Risk and Exposure Assessment (henceforth, Scope and Methods Plans).⁴ These documents were released for public comment in April 2011, and were the subject of a consultation with the CASAC on May 19-20, 2011 (76 FR 23809; April 28, 2011). In May 2012, a memo titled, Updates to information presented in the Scope and Methods Plans for the Ozone NAAQS Health and Welfare Risk and Exposure Assessments, was made available that described changes to elements of the scope and methods plans and provided a brief explanation of each change and the reason for it.

⁴ EPA-452/P-11-001 and -002; April 2011; Available: http://www.epa.gov/ttn/naaqs/standards/ozone/s_o3_2008_pd.html.

The draft assessment documents announced today convey the approaches taken to assess exposures to ambient O3 and to characterize associated health and welfare risks, as well as present the initial key results, observations, and related uncertainties associated with the quantitative analyses performed.

In addition, on or about August 13, 2012, the EPA will make available the first draft document titled Policy Assessment for the Review of the Ozone National Ambient Air Quality Standards, First External Review Draft. This document will serve to “bridge the gap” between the scientific information and the judgments required of the Administrator in determining whether it is appropriate to retain or revise the standards. The Policy Assessment will build upon information presented in the Integrated Science Assessment of Ozone and Related Photochemical Oxidants (Third draft) ⁵ and the two draft assessment documents described above. At the same time, the EPA will make available appendices and additional technical materials that support the first draft Policy Assessment and first draft Risk and Exposure Assessments. The first draft Policy Assessment, appendices, and additional technical materials may be accessed online through EPA's TTN Web site at http://www.epa.gov/ttn/naaqs/standards/ozone/s_o3_index.html.

⁵ U.S. EPA. Integrated Science Assessment of Ozone and Related Photochemical Oxidants (Third External Review Draft). U.S. Environmental Protection Agency, Washington, DC, EPA/600/R-10/076C, 2012; Available: http://cfpub.epa.gov/ncea/isa/recordisplay.cfm?deid=242490#Download.

The EPA is soliciting advice and recommendations from the CASAC by means of a review of these three draft documents at an upcoming public meeting of the CASAC that will be held in September 2012. Information about these public meetings, including the dates and locations, will be published as a separate notice in the Federal Register. Following the CASAC meeting, the EPA will consider comments received from the CASAC and the public in preparing revisions to these documents.

The draft documents briefly described above do not represent and should not be construed to represent any final EPA policy, viewpoint, or determination. The EPA will consider any public comments submitted in response to this notice when revising the documents.

Dated: July 11, 2012.
Mary Henigin,
Acting Director, Office of Air Quality Planning and Standards.

[FR Doc. 2012-17626 Filed 7-18-12; 8:45 am]

BILLING CODE 6560-50-P